LIBRARY OF CONGRESS

Copyright Office

37 CFR Parts 201 and 202

[Docket No. 2017-15]

Group Registration of Unpublished Works: Extension of Comment Period

AGENCY: U.S. Copyright Office, Library of Congress.

ACTION: Notice of proposed rulemaking; extension of comment period.

SUMMARY: The U.S. Copyright Office is extending the deadlines for the submission of written comments in response to its October 12, 2017 notice of proposed rulemaking, regarding the creation of a new group registration option for unpublished works to replace the existing “unpublished collections” registration option. In this document, the Office also clarifies that the new group registration option is not intended for group registration of unpublished photographs; that is the subject of a separate proposed rulemaking, which would permit submission of up to 750 photographs on one application.

DATES: The comment period for the notice of proposed rulemaking published on October 12, 2017 (82 FR 47415), is extended. Comments must be made in writing and must be received in the U.S. Copyright Office no later than November 17, 2017.

ADDRESSES: For reasons of government efficiency, the Copyright Office is using the regulations.gov system for the submission and posting of public comments in this proceeding. All comments are therefore to be submitted electronically through regulations.gov. Specific instructions for submitting comments are available on the Copyright Office Web site at https://www.copyright.gov/rulemaking/groupunpublished/. If electronic submission of comments is not feasible due to lack of access to a computer and/or the Internet, please contact the Office for special instructions using the contact information below.

FOR FURTHER INFORMATION CONTACT: Robert J. Kasunic, Associate Register of Copyrights and Director of Registration Policy and Practice; Erik Bertin, Deputy Director of Registration Policy and Practice; or Regan A. Smith, Deputy General Counsel, by telephone at 202-707-8040 or by email at rkas@loc.gov, ebertin@loc.gov, and resm@loc.gov.

SUPPLEMENTARY INFORMATION: As detailed in an October 12, 2017 notice of proposed rulemaking (“NPRM”),¹ the U.S. Copyright Office is proposing to create a new group registration option for a limited number of unpublished works (“GRUW”). Under that proposal, applicants will be allowed to include up to five works in each submission. This new group registration option will replace the current “unpublished collections” option.

¹ 82 FR 47415 (Oct. 12, 2017).

After publication of the NPRM, there was some understandable confusion about the scope of the NPRM among the photographer community, who feared that the GRUW option would limit them to submitting five unpublished photographs per application. To clarify, the Office does not intend to impose such a limit on photographers. On December 1, 2016, the Office issued a separate notice of proposed rulemaking amending the existing option for group registration of photographs that would create an electronic application for group registration for published photographs, and also create an analogous application for group registration for unpublished photographs.² Under that separate proposed rule, photographers would be permitted to include up to 750 photographs on each such application, rather than the five works proposed under the new GRUW option. See generally 81 FR at 86649. The Office is working on the group registration of photographs final rule in conjunction with the public comments received in that rulemaking. The Office fully intends to finalize that rule before finalizing the GRUW final rule.

² 81 FR 86643 (Dec. 1, 2016).

Dated: November 7, 2017.
Sarang V. Damle,
General Counsel and Associate Register of Copyrights.

[FR Doc. 2017-24511 Filed 11-9-17; 8:45 am]

BILLING CODE 1410-30-P